DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding this information collection received by October 21, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Research Service

Title: Peer Review Related Forms for the Office of Scientific Quality Review.

OMB Control Number: 0518-0028.

Summary of Collection: The Office of Scientific Quality Review (OSQR) oversees peer review of Agricultural Research Service (ARS) research plans in response to Congressional mandate in the Agricultural Research Extension, and Education Reform Act of 1998 (Pub. L. 105-185, section 103d). The ARS peer-review panels are comprised of scientists who review current scientific research projects and who have expert knowledge in the fields being reviewed. The OSQR oversees the process of panel member selection, their personal documentation and certification for review, and the recording, and transmittal of panel reviews.

Need and Use of the Information: ARS will collect the information using the following forms:

ARS-199A, Ad Hoc Peer Review of ARES Research Project.

ARS-200PA, Confidentiality Agreement.

ARS-202P, Chair & Panelist Information Form.

ARS-209P, OSQR Expense Report.

ARS-223P Panel Recommendation on ARS Research Project Plan.

ARS-225P, Panelist Peer Review of ARS Research Project.

ARS-231 Reviewer Comment Form.

The information collected is used to manage the travel and stipend payments to panel reviewers and provide well-organized feedback to ARS's researchers about their projects. If information were not collected, ARS would not meet the administrative or legislative requirements of the Peer Review Process as mandated by Public Law 105-185; section 103(d).

Description of Respondents: Individuals or households.

Number of Respondents: 230.

Frequency of Responses: Reporting: Quarterly; Weekly; Annually.

Total Burden Hours: 2,460.

Ruth Brown,
Departmental Information Collection Clearance Officer.

[FR Doc. 2022-20391 Filed 9-20-22; 8:45 am]

BILLING CODE 3410-03-P